DEPARTMENT OF THE TREASURY

Submission for OMB Review; Comment Request

February 20, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before April 1, 2002, to be assured of consideration.

Internal Revenue Service (IRS)

OMB Number: 1545-1626.

Form Number: IRS Form 1065-B and Schedule K-1 .

Type of Review: Extension.

Title: U.S. Return of Income for Electing Large Partnerships (Form 1065-B); and Partner's Share of Income (Loss) From an Electing Large Partnership (Schedule K-1).

Description: Code sections 771-777 allow large partnerships to elect to file a simplified return which requires fewer items to be reported to partners.

Respondents: Business or other for-profit, farms.

Estimated Number of Respondents/Recordkeepers: 100.

Estimated Burden Hours Per Respondent/Recordkeeper:

Form | Recordkeeping | Learning about the law or the form | Preparing the form | Copying, assembling, and sending the form to the IRS
Form 1065-B | 50 hr., 22 min | 21 hr., 1 min | 32 hr., 6 min | 2 hr., 40 min.
Schedule K-1 (Form 6065-B) | 10 hr., 10 min | 7 hr., 49 min | 11 hr., 56 min

Frequency of Response: Annually.

Estimated Total Reporting/Recordkeeping Burden: 456,151 hours.

OMB Number: 1545-1756.

Revenue Procedure Number: Revenue Procedure 2001-56.

Type of Review: Extension.

Title: Demonstration Automobile Use.

Description: This revenue procedure provides optional simplified methods for determining the value of the sue of demonstration automobiles provided to employees by automobile dealerships.

Respondents: Business or other for-profit.

Estimated Number of Recordkeepers: 20,000.

Estimated Burden Hours Per Recordkeeper: 5 hours.

Estimated Total Recordkeeping Burden: 100,000 hours.

OMB Number: 1545-1758.

Form Number: IRS Form 8879.

Type of Review: Extension.

Title: IRS e-file Signature Authorization.

Description: Form 8879 is used to allow taxpayers to authorize the Electronic Return Originators to enter the taxpayer's PIN on the electronically filed tax return.

Respondents: Individuals or households.

Estimated Number of Respondents/Recordkeepers: 8,000,000.

Estimated Burden Hours Per Respondent/Recordkeeper:

Learning about the law or the form—8 min.

Preparing the form—15 min.

Frequency of Response: Annually.

Estimated Total Reporting/Recordkeeping Burden: 5,440,000 hours.

OMB Number: 1545-1760.

Form Number: IRS Form 1099-Q.

Type of Review: Extension.

Title: Qualified Tuition Program Payments (Under Section 529).

Description: Form 1099-Q is used to report distributions from private and state qualified tuition programs as required under Internal Revenue Code section 529.

Respondents: Business or other for-profit.

Estimated Number of Respondents/Recordkeepers: 150.

Estimated Burden Hours Per Respondent/Recordkeeper: 11 minutes.

Frequency of Response: Annually.

Estimated Total Reporting/Recordkeeping Burden: 28,500 hours.

Clearance Officer: George Freeland, Internal Revenue Service, Room 5577, 1111 Constitution Avenue, NW., Washington, DC 20224.

OMB Reviewer: Alexander T. Hunt, Office of Management and Budget, Room 10202, New Executive Office Building, Washington, DC 20503, (202) 395-7860.

Lois K. Holland,
Departmental Reports Management Officer.

[FR Doc. 02-4874 Filed 2-28-02; 8:45 am]

BILLING CODE 4830-01-P